FEDERAL RESERVE SYSTEM

Change in Bank Control Notices; Acquisitions of Shares of a Savings and Loan Holding Company

The notificants listed below have applied under the Change in Bank Control Act (12 U.S.C. 1817(j)) and the Board's Regulation LL (12 CFR part 238) to acquire shares of a savings and loan holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 8, 2015.

A. Federal Reserve Bank of Minneapolis (Jacquelyn K. Brunmeier, Assistant Vice President) 90 Hennepin Avenue, Minneapolis, Minnesota 55480-0291:

1. J. Scott Nelson, Redwood Falls Minnesota, individually and James Tersteeg, and Thomas Stotesbery, all as a trustees of the HomeTown Bank Employee Stock Ownership Plan, Redwood Falls Minnesota; J. Scott Nelson and John Nelson, Redwood Falls, Minnesota; Sarah Hoyt, St Paul Minnesota, all as members of the Nelson family shareholder group acting in concert, to acquire and retain voting shares Redwood Financial, Inc., Redwood Falls, Minnesota, and thereby indirectly acquire and retain voting shares of HomeTown Bank, Redwood Falls, Minnesota.

Board of Governors of the Federal Reserve System, March 19, 2015.
Margaret McCloskey Shanks,
Deputy Secretary of the Board.

[FR Doc. 2015-06675 Filed 3-23-15; 8:45 am]

BILLING CODE 6210-01-P